ADVISORY COUNCIL ON HISTORIC PRESERVATION

Notice of Adoption of Policy Statement on Climate Change and Historic Preservation

AGENCY: Advisory Council on Historic Preservation.

ACTION: Notice of adoption of policy statement on climate change and historic preservation.

SUMMARY: The Advisory Council on Historic Preservation has adopted its Policy Statement on Climate Change and Historic Preservation.

DATES: The policy statement was adopted on June 16, 2023.

FOR FURTHER INFORMATION CONTACT: Druscilla Null, (202) 517-1487, dnull@achp.gov.

SUPPLEMENTARY INFORMATION: The Advisory Council on Historic Preservation (ACHP), an independent federal agency created by the National Historic Preservation Act (NHPA), works to promote the preservation, enhancement, and sustainable use of our nation's diverse historic resources, and advises the President and the Congress on national historic preservation policy.

Under the NHPA, the ACHP's duties include advising the President and Congress on matters relating to historic preservation; recommending measures to coordinate activities of federal, state, and local agencies and private institutions and individuals related to historic preservation; and advising on the dissemination of information pertaining to those activities. In keeping with these mandates, in July 2021 the ACHP initiated discussions regarding the impact of climate change on historic places and how the ACHP might advise and assist federal agencies and other stakeholders in addressing the issue.

To focus ACHP efforts, Vice Chairman Jordan Tannenbaum (then acting ACHP Chair) convened the ACHP Climate Change and Historic Preservation Task Force, which first met in November 2021. In addition to Vice Chairman Tannenbaum and ACHP members Reno Franklin, Rick Gonzalez, Kristopher King, and Jay Vogt, the following agencies and organizations were represented on the Task Force: National Association of Tribal Historic Preservation Officers; National Conference of State Historic Preservation Officers; National Trust for Historic Preservation; Department of Defense; Department of Homeland Security; Department of Housing and Urban Development; Department of the Interior; Department of Transportation; Department of Veterans Affairs; and General Services Administration. Following her confirmation by the Senate in December 2022 and subsequent swearing in, current ACHP Chair Sara C. Bronin also joined the task force.

Based on task force meeting discussions, ACHP staff developed a draft policy statement that was reviewed by the task force. A revised draft of the policy statement was then developed and provided to the full ACHP membership for initial review. In March 2023, the members approved providing the draft to stakeholders and the public for comment. Two consultation events were held, one for Tribal and Native Hawaiian organization leaders and the other for State Historic Preservation Officers and their staffs. General public comments also were solicited. Based on the feedback received, the draft was revised. The final version of the policy statement was adopted by vote of the ACHP members on June 16, 2023.

The ACHP issues the regulations (36 CFR part 800) that implement section 106 of the NHPA, which requires federal agencies to take into account the effects of projects they carry out, approve, or fund on historic properties. The policy statement applies to the consideration of climate change issues during section 106 reviews.

While the policy statement pertains to federal agency challenges and opportunities, it also speaks broadly to nonfederal parties, including but not limited to state, tribal, and local governments; preservation planners; and the public. The document defines the scope of the challenge, discussing the range of historic property types affected and the variety of climate impacts. Effects to sacred sites and other properties significant to Indian Tribes and Native Hawaiian organizations are highlighted, as are the disproportionate impacts of climate change on historic places in underserved communities.

The bulk of the document consists of a series of policy principles that are grouped under seven general topics: gathering information; planning for climate change; climate change mitigation; equity; flexibility; education; and collaboration.

Text of the Policy Statement on Climate Change and Historic Preservation

The full text of the adopted policy statement is reproduced below:

ACHP Climate Change and Historic Preservation Policy Statement

America's historic properties—important places that help to define and connect people to their communities—are experiencing escalating climate impacts that are increasingly leading to their damage and destruction. The Advisory Council on Historic Preservation (ACHP) has developed this policy statement to define more clearly connections between climate change and historic properties, to articulate policy principles the ACHP will integrate into the section 106 process, and to guide public-serving institutions on how they may acknowledge, plan for, mitigate, and adapt to climate change impacts on historic properties.

Scope of the Issue

In 2014, the Union of Concerned Scientists released an important report, National Landmarks at Risk: How Rising Seas, Floods, and Wildfires Are Threatening the United States' Most Cherished Historic Sites. Through a series of case studies illustrating climate change impacts to well-known historic places (many of them federally owned and managed), the report concluded that:

Many of the United States' iconic landmarks and heritage sites are at risk as never before. Sea level rise, coastal erosion, increased flooding, heavy rains, and more frequent large wildfires are damaging archaeological resources, historic buildings, and cultural landscapes across the nation. From sea to shining sea, a remarkable number of the places where American history was made are already under threat. The geographic and cultural quilt that tells the American story is fraying at the edges—and even beginning to be pulled apart—by the impacts of climate change.

While that report focused on “iconic” sites, all kinds of historic buildings and neighborhoods, archaeological sites, Tribal sites and resources, and culturally important landscapes (both designed and natural) throughout the country (collectively, “historic properties”), as well as associated intangible cultural heritage, are at risk from a broad range of potential climate impacts, including sea level rise; extreme weather events; increased wildfires; drought; melting permafrost and erosion; and temperature changes. These impacts are both direct and cumulative, and threaten not only historic properties but also the terrestrial and aquatic flora and fauna associated with historically and culturally important places. The loss of or damage to historic properties from such climate impacts can irrevocably change a community's sense of place and erode people's sense of personal identity and cultural stability.

Among the historic properties affected by climate change are sacred sites, landscapes, and other properties of religious and cultural significance to Indian Tribes and Native Hawaiian organizations (NHOs). These historic properties frequently are inseparable from the natural landscape and reflect a symbiotic relationship between nature and culture that is increasingly threatened by climate change. As described in the 2021 Status of Tribes and Climate Change Report, authored by the Status of Tribes and Climate Change Working Group convened by the Institute for Tribal Environmental Professionals:

Tribes have long faced many challenges in protecting and preserving [Tribal cultural resources], including from the multiplying effects of climate change. From the erosion of ancient burials out of coastal bluffs on the Pacific coast to the disruption of habitats and life cycles for traditional subsistence foods and medicines in the Great Plains and the weathering and loss of ancient petroglyphs and pictographs in the Southwest, climate change is threatening Tribal cultural resources ranging from tangible archaeological sites to intangible cultural beliefs and values.

Listening sessions and other outreach efforts with Indian Tribes and NHOs regarding climate impacts have helped to shape this policy statement and underscore the severity of these impacts.

It also is important to acknowledge the often-disproportionate impact of climate change on disadvantaged and underserved communities. These communities generally are limited in their ability to plan for and adapt to climate change, often lacking management and decision-making authority for key resources, and thus may be constrained in addressing impacts on historic properties.

Role of the Federal Government

The ACHP, an independent federal agency created by the National Historic Preservation Act (NHPA), works to promote the preservation, enhancement, and sustainable use of our nation's diverse historic resources. It is the ACHP's responsibility to “advise the President and Congress on matters relating to historic preservation, recommend measures to coordinate activities of federal, state, and local agencies and private institutions and individuals related to historic preservation, and advise on the dissemination of information pertaining to those activities” (54 U.S.C. 304102). The ACHP has developed this policy statement in keeping with this mandate.

In accordance with the NHPA, the federal government is to be a national preservation leader, manage and care for historic properties under its control, and foster both nonfederal, governmental, and private preservation activities. Section 110 of the NHPA (54 U.S.C. 306101-306107; 306109-306114) sets out the broad historic preservation responsibilities of federal agencies and is intended to ensure that historic preservation is fully integrated into their ongoing programs. Section 106 of the NHPA (54 U.S.C 306108) requires federal agencies to consider the effects of projects they carry out, approve, or fund on historic properties. As the ACHP issues the regulations (36 CFR part 800) that guide federal agencies in completing review of federal projects under section 106, this policy statement applies to the consideration of climate change issues during section 106 reviews.

Climate change adds new challenges to fulfilling federal responsibilities under the NHPA and calls for creative approaches. All federal agencies should be considering impacts to historic properties as part of their climate change planning. Progress is being made in this regard, but much more remains to be done. The National Park Service has issued several studies and guidance documents to guide both its own response to climate change and to assist others. Building upon and expanding such federal guidance will be vitally important.

Intended Audience

Given the leadership role of the federal government in addressing both climate impacts and historic preservation, the following policy principles seek to promote informed federal decision making and responsible stewardship of historic properties. The ACHP also has designed this policy statement to assist community groups, nonprofit organizations, and Tribal, state, and local governments (collectively, along with federal agencies, “public-serving institutions”) as they seek to address the impacts of climate change on historic properties important to the people they represent.

Policy Principles

Gathering Information

1. Public-serving institutions should work collaboratively to assemble information about previously designated or documented historic properties and to identify previously undesignated or undocumented historic properties, with priority on areas with the highest potential for climate impacts. We cannot protect historic properties if we do not know where and what they are. Climate change effects can be felt anywhere, and thus public-serving institutions should establish the long-term goal of assembling accurate, georeferenced information about historic properties, known and unknown, wherever they are. In the near term, public-serving institutions should prioritize surveying known and unknown historic properties in areas where severe effects to historic properties can be readily anticipated, whether from direct climate threats or expected impacts from climate change adaptation and mitigation solutions. Precedence should be given to areas where there has been little previous survey for historic properties or where an existing survey is outdated. Often, these priority areas include disadvantaged and underserved communities that may previously have received limited attention and that may lack resources to undertake surveys of their own. Flexibility in the design and function of survey projects can help to advance equity goals in identification of historic properties.

Consistent with their missions and authorities, federal agencies should both prioritize the survey and identification of federal historic properties threatened by climate change and—through funding and technical assistance—encourage Tribal, state, local, and nongovernmental survey efforts. Federal agencies are required under section 110 of the NHPA (54 U.S.C. 306102) to identify historic properties under their jurisdiction or control; however, additional resources are needed if agencies are to accelerate efforts to identify historic properties as part of climate change planning. In the process of conducting these surveys and documenting Tribal sites and resources, federal agencies should act in accordance with the confidentiality provisions of section 304 of the NHPA (54 U.S.C. 307103).

2. When planning to address climate impacts on historic properties, public-serving institutions should seek out and incorporate adaptation and mitigation strategies grounded in Indigenous Knowledge. Indian Tribes and NHOs possess a body of observations, oral and written knowledge, innovations, practices, and beliefs developed through interaction and experience with the environment. The expertise embodied by such Indigenous Knowledge and its contemporary use by Indian Tribes and NHOs can be critically important to the development of climate change adaptation and mitigation strategies. It is paramount that Indigenous Knowledge is considered when addressing climate impacts on historic properties of direct concern to Indian Tribes and NHOs. Indigenous Knowledge also can contribute to developing climate-related strategies for other historic properties, for example when Indigenous Knowledge of wildfire management assists in making areas and communities more resilient to wildfire threats.

Planning for Climate Change

3. Public-serving institutions should consider impacts to historic properties as an integral part of climate-related planning and implementation. Governments—federal, Tribal, state, and local—and other public-serving institutions are working to prepare for and adjust to both current and projected impacts of climate change. Efforts include climate protective infrastructure projects, such as living shorelines and seawalls; climate resilient infrastructure projects where roads, sewers, waterlines, etc. are built or retrofitted to better resist climate impacts; and efforts to relocate threatened historic buildings out of climate risk-prone areas. To ensure effects to historic properties are not overlooked, thus leading to their destruction or making them more difficult to later address, public-serving institutions must proactively account for historic properties during climate change planning and implementation activities. Doing so not only serves to help protect historic properties but also supports other aspects of public agency missions and community priorities that benefit from the continued stewardship of historic properties. At the macro level of consideration, expanding and enhancing discussion of historic properties in the periodic National Climate Assessment developed by the U.S. Global Change Research Program would be beneficial.

4. Public-serving institutions should consider impacts to historic properties as an integral part of disaster preparedness and response. While some climate change impacts, such as sea level rise, progress gradually, others, such as wildfires and extreme weather events, present immediate natural hazards. Plans for disaster preparedness and disaster response should assess the vulnerability of historic properties, delineate actions to help reduce or avoid disaster impacts on historic properties, and explain how such properties will be treated during post-disaster recovery efforts. Federal disaster assistance programs should encourage and incentivize Tribal, state, and local governments to incorporate such considerations into disaster preparedness and response planning. Historic building relocation should be prioritized in the context of federal or state government buyout programs where at-risk properties are acquired to reduce future disaster losses.

5. Public-serving institutions serving communities experiencing climate change-related migration, including community-driven relocation of entire communities, should address the impacts of such migration on historic properties in their planning strategies. Adapting to the changing climate will in some cases mean population shifts into, out of, and within communities, resulting in a number of possible impacts to historic properties. Historic properties in areas experiencing population increases consequently may be threatened by development pressures. Historic properties in risk-prone areas experiencing population decreases may suffer from neglect and displacement of residents with long-standing ties to the area. In extreme situations, entire populations of communities may need to relocate to escape climate-induced impacts, triggering difficult choices regarding the abandonment or possible relocation of historic properties. Considering such migration-based effects during climate adaptation planning is critical to reducing negative effects to historic properties, culture, and community.

Climate Change Mitigation

6. Public-serving institutions should contribute to decarbonization by promoting reuse of older and historic buildings and by encouraging the thoughtful retrofit of such buildings to improve operational energy efficiency. About 39 percent of global carbon emissions come from the construction and operation of buildings. This impact can be reduced by reusing existing buildings, thus avoiding the embodied carbon emissions inherent in new construction, including the carbon associated with the manufacturing and transportation of new materials and the removal and disposal of building materials from demolished buildings. Reuse of existing buildings in urban areas also contributes to climate change mitigation by promoting density, helping to combat urban sprawl and its attendant negative environmental impacts. In terms of operational impacts, carbon emissions can be reduced by making existing buildings more energy efficient.

Since approximately 40 percent of America's building stock is at least 50 years old, it is critical that reuse and energy retrofit of older and historic buildings (including enhanced electrification and increased energy efficiency standards) be fundamental priorities. In worst case scenarios, where a historic building will not be retrofitted and demolition cannot be avoided, practices such as deconstruction and reuse of salvageable materials should be employed to reduce the demolition's carbon impact. Federal, Tribal, state, and local governments should lead by example through the management of the older and historic buildings in their real estate portfolios and encourage private sector action through funding and other incentives. As part of portfolio management decision making, consideration should be given to using full life-cycle accounting to value the embodied carbon in historic buildings versus new construction in order to facilitate fact-based decision making. In addition, government standards and programs that promote the rehabilitation of historic properties should be assessed to ensure that they align with climate mitigation and adaptation goals; that they facilitate a variety of modern uses; and that they encourage implementation of energy efficiency measures as integral to thoughtful preservation of historic buildings.

7. Development of clean energy projects and climate-friendly transportation infrastructure projects should be expedited through efficient and effective permitting processes and environmental reviews (including section 106 reviews), while still ensuring full consideration of potential impacts to historic properties. Reducing climate change will require significant investment in large-scale clean energy projects (such as solar farms, wind farms, hydropower plants, geothermal plants, new and expanded transmission facilities, carbon capture and sequestration projects, and mining of key minerals needed for clean energy technologies) as well as smaller-scale distributed generation projects, such as rooftop solar panels, that generate electricity at or near where it will be used. Climate-friendly transportation infrastructure projects—including rail, bus rapid transit, bicycle infrastructure, and pedestrian infrastructure—also are critical to climate change mitigation since the transportation sector is responsible for more greenhouse gas emissions than any other sector of the American economy.

Environmental reviews and permitting processes for these types of important projects, especially those with minimal and small-scale impacts, should be managed in such a way as to proceed expeditiously. However, potential adverse effects to historic properties must be carefully addressed. Of particular concern, such projects (particularly those with landscape-scale impacts) can threaten sacred sites and other properties of religious and cultural significance to Indian Tribes and NHOs, sometimes striking at the very heart of their cultures. During section 106 review of clean energy projects and climate-friendly transportation infrastructure projects, federal agencies should explore use of program alternatives to tailor and expedite the review process while at the same time ensuring the consultation process is accessible, meaningful, and transparent to the wide variety of consulting parties and stakeholders, including Indian Tribes and NHOs.

Equity

8. Public-serving institutions should recognize that historic properties important to disadvantaged and underserved communities may be disproportionately affected by climate change and that such communities often are ill-equipped to undertake needed interventions. Disadvantaged and underserved communities tend to lack the economic and political capital to plan for and adapt to climate change and may not have direct control over decision-making for community resources. Many such communities also are particularly susceptible to the physical impacts of climate change. For example, low-income residents and people of color disproportionally reside in flood-prone urban areas. Also, disadvantaged groups are more likely to reside in older housing stock that is in greater need of weatherization and energy retrofitting. Such constraints may hinder disadvantaged and underserved communities in trying to make the places they care about—including historic properties—more resilient to climate impacts. Public-serving institutions should recognize and seek to address this problem by helping those affected identify their historic properties, assess their community's vulnerability, and develop strategies to balance appropriate adaptation and mitigation responses with the need to preserve their community identity and sense of place.

9. Federal, state, and local government entities that oversee planning, permitting processes, and environmental reviews (including section 106 reviews) for climate adaptation and climate mitigation projects should consult regarding historic properties with Indian Tribes, NHOs, and disadvantaged and underserved communities, and capacity building options should be explored for supporting their participation in consultation. The section 106 process under the NHPA already requires federal agency consultation with Indian Tribes, NHOs, and other consulting parties. Here, the ACHP reiterates that consultation is necessary and important to ensuring climate adaptation and mitigation projects address impacts to historic properties of importance to Indian Tribes, NHOs, and disadvantaged and underserved communities. Soliciting and considering their views should be done proactively, early in planning, and throughout environmental reviews and permitting processes. During development of adaptation and mitigation strategies, local knowledge (the information held by local communities and individuals) and the Indigenous Knowledge of Indian Tribes and NHOs can be valuable assets to planning.

In some cases, limited resources may constrain the active participation of disadvantaged and underserved communities in consultation. Federal, state, and local government entities should consider options for strategic financial investments or other assistance to help with needed capacity development. The ACHP previously has recommended capacity-building support for consulting parties pursuant to the agency's “Guidance on Assistance to Consulting Parties in the section 106 Review Process.” Since many Indian Tribes have been incorporating consideration of climate change into their environmental reviews and permitting processes for decades, climate-related project planning should seek to adopt or align with existing practices and standards, where feasible.

Flexibility

10. The federal government should expand and more flexibly apply its guidance on the treatment of historic properties threatened by climate change. Federal standards significantly influence the rehabilitation of historic properties, public and private alike, because they are often adopted or adapted by state and local governments and referenced in private party actions (such as preservation easements). The federal government should accelerate the development of additional guidance for acceptable treatments of historic buildings, sites, and landscapes facing climate risks. The guidance should extend beyond flooding to the broad range of climate impacts, should incorporate the latest technological innovations and material treatments, and should increase flexibility in retrofitting buildings to be more resilient while preserving their historic character as much as possible. Likewise, the National Flood Insurance Program should be reviewed to explore how the program might further encourage the modification or relocation of historic buildings to enhance their resiliency, and to evaluate the impacts of waivers issued for historic properties upon community and building resiliency, public cost, and economic growth.

11. Public-serving institutions should develop sensitive and creative solutions to help communities accept and contend with the reality that many historic properties will have to be altered if they are to survive climate change, and many others inevitably will be lost to climate impacts. Interventions to protect historic properties from climate impacts or reduce such impacts may necessitate changes to the properties or their surroundings that are less than ideal. Such actions, while saving the properties from loss, may result in negative effects. Public-serving institutions should start talking more openly about these issues, should guide communities in how to triage priorities regarding what properties to surrender to climate destruction, and should develop sensitive and sensible strategies to help residents deal with such losses.

12. Consideration of alternatives during environmental review of climate-related projects, including during section 106 review, should be approached flexibly to promote development of nimble, innovative, and expeditious ways to protect historic properties. Section 106 review and other environmental reviews provide structured processes for exploring alternatives to avoid or minimize any adverse impacts of climate adaptation and mitigation projects. Since the evolving climate crisis poses new and complex challenges for the protection of historic properties that need to be addressed on an increasingly accelerated timeline, it is important that consideration of alternatives be rooted in flexibility and creativity.

Education

13. Public-serving institutions, and especially governments, should train employees regarding climate change impacts on historic properties. Given the scope and magnitude of the climate change effects that federal, Tribal, state, and local governments must address, it is understandable that impacts to historic properties may not be prioritized as highly as some other issues. However, it is critical that there be awareness of such impacts and of the importance of addressing them. Raising awareness through proactive training of government staff is essential. Agencies at all levels of government should have opportunities to learn from each other and to share information, strategies, and examples. Notably, it also is important for them to increase their understanding of relevant international approaches to protecting historic properties from, and adapting them to, climate change.

14. Public-serving institutions should educate the media and the public about climate change impacts on historic properties and what can be done to address them. The general public needs to be aware of the worldwide climate-related threats to historic properties and the adaptation and mitigation options that might help to address those threats. Consciousness raising efforts are needed. Likewise, there needs to be outreach to explain how environmental review processes, including section 106 review, provide opportunities for the public to comment on the climate dimensions of projects as they arise. Such educational efforts are important to help ensure the public can effectively advocate for protecting historic properties of importance to them.

Collaboration

15. Cooperative efforts across agencies, between levels of government, and within communities are critically important. The impacts of climate change on historic properties are so wide-ranging and potentially severe that collaboration among public-serving institutions, including federal, Tribal, state, and local governments, community groups, and nonprofit organizations, is essential. Likewise, collaboration with those in the environmental, infrastructure, transportation, energy, private, and philanthropic sectors will be necessary for progress. Cooperation and forging of partnerships will enhance implementation of each of the principles discussed above. Federal agencies can take a leadership role in this regard through their own collaborative work and by encouraging such work through funding and technical assistance.

Glossary

• Adaptation: Adjustment in natural or human systems to a new or changing environment that exploits beneficial opportunities or moderates negative effects. (U.S. Global Change Research Program Web Site Glossary)

• Climate change-related migration: Migration that can be attributed largely to the slow-onset impacts of climate change on livelihoods owing to shifts in water availability and crop productivity, or to factors such as sea level rise or storm surge. (White House Report on the Impact of Climate Change on Migration, 2021)

• Community-driven relocation: Moving a community or portions of a community away from a hazard prone area to a new location with lesser exposure to hazards or their impacts. (Department of Housing and Urban Development's Climate Resilience Implementation Guide: Community Driven Relocation, 2022)

• Historic property: Any prehistoric or historic district, site, building, structure, or object included in, or eligible for inclusion in, the National Register of Historic Places maintained by the Secretary of the Interior. This term includes artifacts, records, and remains that are related to and located within such properties. The term includes properties of traditional religious and cultural importance to an Indian Tribe or Native Hawaiian organization and that meet the National Register criteria. (Protection of Historic Properties, 36 CFR part 800)

• Mitigation: Measures to reduce the amount and speed of future climate change by reducing emissions of heat-trapping gases or removing carbon dioxide from the atmosphere. (U.S. Global Change Research Program Web Site Glossary) [To avoid confusion, this policy statement does not employ the term “mitigation” as used in the context of section 106 review, where it means reducing the severity of a project's adverse effects to historic properties.]

• Resiliency/resilient: A capability to anticipate, prepare for, respond to, and recover from significant multi-hazard threats with minimum damage to social well-being, the economy, and the environment. (U.S. Global Change Research Program Web Site Glossary)

Adopted June 16, 2023.

(End of Document)

Authority: 54 U.S.C. 304102(a).

Dated: July 31, 2023.
Javier Marques,
General Counsel.

[FR Doc. 2023-16569 Filed 8-2-23; 8:45 am]

BILLING CODE 4310-K6-P